DEPARTMENT OF ENERGY

Federal Energy Regulatory Commission

Notice of Electric Quarterly Report Users Group Meeting

| Docket Nos.
Filing Requirements for Electric Utility Service Agreements | RM01-8-000
Electricity Market Transparency Provisions of Section 220 of the Federal Power Act | RM10-12-000
Revisions to Electric Quarterly Report Filing Process | RM12-3-000
Electric Quarterly Reports | ER02-2001-000

On March 29, 2017, the Federal Energy Regulatory Commission (Commission) issued a notice that Commission staff will hold an Electric Quarterly Report (EQR) Users Group meeting on May 16, 2017. The meeting will take place from 1:00 p.m. to 5:00 p.m. (EST), in the Commission Meeting Room at 888 First Street NE., Washington, DC 20426. All interested persons are invited to attend. For those unable to attend in person, access to the meeting will be available via webcast.

Staff is hereby supplementing the March 29, 2017 notice with the agenda for discussion. During the meeting, Commission staff and EQR users will discuss potential improvements to the EQR program and the EQR filing process, including: (1) Improvements made since the December 2016 EQR Users Group meeting, such as updates to the EQR Web page and Frequently Asked Questions (FAQs); (2) EQR extension requests; (3) data in five or fifteen-minute increments; (4) common error messages and solutions, and (5) open discussion about current topics and reporting practices. Please note that matters pending before the Commission and subject to ex parte limitations cannot be discussed at this meeting. An agenda of the meeting is attached.

Those interested in actively participating in the discussion are encouraged to attend in person. All interested persons (whether attending in person or via webcast) are asked to register online at https://www.ferc.gov/whats-new/registration/05-16-17-form.asp. There is no registration fee. Anyone with Internet access who wants to listen to the meeting can do so by navigating to www.ferc.gov' s Calendar of Events, locating the EQR Users Group Meeting on the Calendar, and clicking on the link to the webcast.

The webcast will allow persons to view and listen to the meeting. Questions during the meeting can be sent to EQRUsersGroup@ferc.gov.

Those who would like to participate in the discussion by telephone during the meeting should send a request for a telephone line to EQRUsersGroup@ferc.gov by 5:00 p.m. (EST) on May 9, 2017 with the subject line: EQR Users Group Meeting Teleconference Request.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the EQR Users Group meeting, please contact Don Callow of the Commission's Office of Enforcement at (202) 502-8838, or send an email to EQRUsersGroup@ferc.gov.

Dated: May 8, 2017.
Kimberly D. Bose,
Secretary.

Agenda

EQR Users Group Meeting

Commission Meeting Room

Tuesday, May 16, 2017

1:00-1:30 p.m. Welcome, Introductions and Logistics

• Agenda Review

• Ex Parte Limitations

• Meeting Rules for Comments and Questions

1:30-2:15 p.m. Progress Since Last Users Group Meeting

• Updates and progress areas

• Updates to the EQR Web page

2:15-2:30 p.m. EQR Extension Requests

2:30-2:55 p.m. EQR Data in Five and Fifteen Minute Increments

2:55-3:10 p.m. Break

3:10-3:40 p.m. Data Validation and Error Identification Issues

• Common Error Messages and Solutions

• Potential Improvements and Feedback

3:40-4:45 p.m. Open Discussion

• Products Reported as “Other” Products

• Reporting Zero and Negative Quantities

• Questions and Comments

4:45-5:00 p.m. Closing Remarks

[FR Doc. 2017-09678 Filed 5-11-17; 8:45 am]

BILLING CODE 6717-01-P